DEPARTMENT OF ENERGY

Federal Energy Regulatory Commission

[Docket No. EG02-159-000, et al.]

Delaware Mountain Wind Farm, LP, et al.; Electric Rate and Corporate Regulation Filings

August 8, 2002.

The following filings have been made with the Commission. The filings are listed in ascending order within each docket classification.

1. Delaware Mountain Wind Farm, LP

[Docket No. EG02-159-000]

Take notice that on August 6, 2002, Delaware Mountain Wind Farm, LP (Applicant), filed with the Federal Energy Regulatory Commission (Commission) an amendment to its June 26, 2002 application for determination of exempt wholesale generator status pursuant to Part 365 of the Commission's regulations.

Applicant states that it is a Delaware limited partnership engaged directly and exclusively in the business of owning and operating an approximately 30 MW wind-powered generation facility located in Culberson County, Texas. Electric energy produced by the facility will be sold at wholesale.

Comment Date: August 29, 2002.

2. Williams Generating Memphis, L.L.C.

[Docket No. EG02-176-000]

Take notice that on August 5, 2002, Williams Generating Memphis, L.L.C. (WGM) tendered for filing pursuant to Part 365 of the Federal Energy Regulatory Commission's Regulations, 18 CFR part 365, its application for determination of exempt wholesale generator status.

WGM, a wholly-owned subsidiary of Williams Refining & Marketing, L.L.C., will own a natural gas-fired electric generating facility with a capacity of approximately 75 MW net in summer ambient conditions and 80 MW net in winter conditions.

Comment Date: August 29, 2002.

3. LMB Funding, Limited Partnership

[Docket No. EG02-177-000]

Take notice that on August 5, 2002, LMB Funding, Limited Partnership (LMB), filed with the Federal Energy Regulatory Commission (Commission) an Application for Determination of Exempt Wholesale Generator Status pursuant to Part 365 of the Commission's Regulations and section 32 of the Public Utility Holding Company Act, as amended (the Application).

The Application seeks a determination that LMB qualifies for Exempt Wholesale Generator status. LMB is a Delaware limited partnership that will own, but not operate a gas-fired combined cycle electric generating facility rated at approximately 600 MW capacity. The facility will be used for the generation of electricity exclusively for sale at wholesale. Copies of this application have been served upon the Securities and Exchange Commission and the Pennsylvania Utility Commission.

Comment Date: August 28, 2002.

4. Cargill-Alliant, LLC v. New York Independent System Operator, Inc.

[Docket No. EL02-116-000]

Take notice that on August 6, 2002, Cargill-Alliant, LLC (Cargill-Alliant), filed a complaint against New York Independent System Operator, Inc (NYISO). Cargill-Alliant alleges that the NYISO, in violation of its tariff, has unlawfully withheld interest on Cargill-Alliant's cash deposit held in escrow by the NYISO.

Comments and Answers: August 28, 2002.

5. Commonwealth Edison Company

[Docket No. ER01-2985-002]

Take notice that on August 5, 2002, Commonwealth Edison Company (Com Ed) submitted for filing, in compliance with the Commission's letter order dated February 13, 2002 in Docket Nos. ER01-2985-000 and -001, an executed copy of the Interconnection Agreement between Com Ed and Zion Energy LLC (Zion).

ComEd states that a copy of this filing has been served on Zion and the Illinois Commerce Commission.

Comment Date: August 26, 2002.

6. Arizona Public Service Company

[Docket No. ER02-2417-000]

Take notice that on August 5, 2002, Arizona Public Service Company tendered for filing Service Agreement No. 147 under FERC Electric Tariff, Eleventh Revised Volume No. 2, effective date January 1, 2001 and filed with the Federal Energy Regulatory Commission by Arizona Public Service Company is to be cancel effective June 30, 2002.

Comment Date: August 26, 2002.

7. Northeast Utilities Service Companies

[Docket No. ER02-2418-000]

Take notice that on August 5, 2002, the Northeast Utilities Service Company (NUSCO), on behalf of The Connecticut Light and Power Company, Western Massachusetts Electric Company, Holyoke Water Power Company, and Holyoke Power and Electric Company, submitted pursuant to section 205 of the Federal Power Act and Part 35 of the Federal Energy Regulatory Commission's (Commission) regulations, rate schedule changes to modify the Northeast Utilities Companies' existing transmission arrangement with the Connecticut Municipal Electric Energy Cooperative (CMEEC) to provide for the delivery of firm power to the Fort Hill Farms substation at the Mohegan Trust Land Border.

A May 1, 2002 effective date has been requested. NUSCO states that copies of these materials were sent to CMEEC and the regulatory commission for the State of Connecticut.

Comment Date: August 29, 2002.

8. PPL Electric Utilities Corporation

[Docket No. ER02-2419-000]

Take notice that on August 5, 2002, PPL Electric Utilities Corporation (PPL Electric Utilities) tendered for filing an Interconnection Agreement between PPL Electric Utilities and Bloomsburg Hospital.

Comment Date: August 26, 2002.

9. Midwest Independent Transmission System Operator, Inc.

[Docket No. ER02-2420-000]

Take notice that on August 2, 2002, the Midwest Independent Transmission System Operator, Inc. (Midwest ISO) submitted modifications to amend the energy imbalance provisions set forth in Schedule 4A of its Joint Open Access Transmission Tariff of the Midwest Independent Transmission System Operator, Inc. for the Transmission System (Michigan) (Midwest ISO JOATT).

The Midwest ISO has requested an effective date of May 1, 2002. The Midwest ISO has electronically served a copy of this filing upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: August 23, 2002.

10. Williams Generating Memphis, L.L.C.

[Docket No. ER02-2421-000]

Take notice that on August 5, 2002, Williams Generating Memphis, L.L.C. (WGM) tendered for filing pursuant to section 205 of the Commission's Rules of Practice and Procedure, 18 CFR 385.205, its application for waivers and blanket approvals under various regulations of the Commission and for an order accepting its Electric Rate Schedule FERC No. 1.

Comment Date: August 26, 2002.

11. Progress Energy on Behalf of Carolina Power & Light Company

[Docket No. ER02-2422-000]

Take notice that on August 6, 2002, Carolina Power & Light Company (CP&L) tendered for filing Service Agreements for Non-Firm and Short-Term Firm Point-to-Point Transmission Service with Allegheny Energy Supply Company, LLC. Service to this Eligible Customer will be in accordance with the terms and conditions of the Open Access Transmission Tariff filed on behalf of CP&L.

CP&L is requesting an effective date of July 15, 2002 for these Service Agreements. A copy of the filing was served upon the North Carolina Utilities Commission and the South Carolina Public Service Commission.

Comment Date: August 27, 2002.

12. Southern California Edison Company

[Docket No. ER02-2423-000]

Take notice that on August 6, 2002, effective the First day of January 2002, Rate Schedule FERC No. 214 and all supplements thereto and Rate Schedule FERC No. 442, filed with the Federal Energy Regulatory Commission by Southern California Edison Company, are to be canceled.

Notice of the proposed cancellation has been served upon the Public Utilities Commission of the State of California and PacifiCorp.

Comment Date: August 27, 2002.

13. New England Power Company

[Docket No. ER02-2424-000]

Take notice that on August 6, 2002, New England Power Company (NEP) submitted for filing Second Revised Service Agreement No. 86 between NEP and Green Mountain Power Corporation under NEP's FERC Electric Tariff, Second Revised Volume No. 9.

Comment Date: August 27, 2002.

14. New England Power Company

[Docket No. ER02-2425-000]

Take notice that on August 6, 2002, New England Power Company (NEP) submitted for filing Third Revised Service Agreement No. 7 between NEP and Green Mountain Power Corporation under NEP's FERC Electric Tariff, Original Volume No. 1.

Comment Date: August 27, 2002.

15. PJM Interconnection, L.L.C. and Allegheny Power

[Docket No. RT01-98-008]

Take notice that on August 5, 2002, PJM Interconnection, L.L.C. (PJM) in compliance with the Federal Energy Regulatory Commission's (Commission) July 23, 2002 order in these proceedings, submitted for filing revised tariff sheets to implement the approved rate settlement in this proceeding. PJM states that, consistent with the settlement and the Commission's order, the revised tariff sheets, which effect a rate reduction, have an effective date of April 1, 2002.

PJM states that it served a copy of its filing on all PJM members, and each of the state electric regulatory commissions within the PJM region.

Comment Date: September 9, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-20565 Filed 8-13-02; 8:45 am]

BILLING CODE 6717-01-P